ENVIRONMENTAL PROTECTION AGENCY

[ER-FRL-9012-7]

Environmental Impact Statements; Notice of Availability

Responsible Agency: Office of Federal Activities, General Information (202) 564-7146 or http://www.epa.gov/compliance/nepa/

Weekly receipt of Environmental Impact Statements filed 12/16/2013 through 12/20/2013 pursuant to 40 CFR 1506.9.

Notice

Section 309(a) of the Clean Air Act requires that EPA make public its comments on EISs issued by other Federal agencies. EPA's comment letters on EISs are available at: http://www.epa.gov/compliance/nepa/eisdata.html

EIS No. 20130375, Draft EIS, USN, PA, Disposal and Reuse of the Former Naval Air Station Joint Reserve Base (NAS JRB), Comment Period Ends: 02/10/2014, Contact: Gregory Preston 215-897-4909

EIS No. 20130376, Draft EIS, BLM, WY, Wyoming Greater Sage-Grouse Draft Land Use Plan Amendment, Comment Period Ends: 02/10/2014, Contact: Lisa Solberg Schwab 307-367-5340

EIS No. 20130377, Draft EIS, USFS, 00, Teckla-Osage-Rapid City 230 kV Transmission Line Project, Comment Period Ends: 02/10/2014, Contact: Ed Fischer 605-673-9207

EIS No. 20130378, Final EIS, FERC, 00, Toledo Bend Hydroelectric Relicensing Project No. 2305-036, Review Period Ends: 01/27/2014, Contact: Alan Mitchnick 202-502-6074

EIS No. 20130379, Final EIS, NRC, SC, William States Lee III Nuclear Station Units 1 and 2 Combined Licenses (COLs) Application, Review Period Ends: 01/27/2014, Contact: Patricia Vokoun 301-415-3470

EIS No. 20130380, Final EIS, USFS, AZ, Show Low South Land Exchange, Review Period Ends: 02/03/2014, Contact: Randall Chavez 928-328-2100

Amended Notices

EIS No. 20130246, Draft EIS, USFS, NV, Greater Sage Grouse Bi-State Distinct Population Segment Forest Plan Amendment, Comment Period Ends: 01/17/2014, Contact: James Winfrey 775-355-5308 Revision to FR Notice Published 08/23/2013; Extending Comment Period to 01/17/2014

EIS No. 20130370, Draft EIS, USFS, AZ, Coconino National Forest Land and Resource Management Plan, Comment Period Ends: 03/20/2014, Contact: Vernon Keller 928-527-3415 Revision to FR Notice Published 12/20/2013; Correct Status from Revised Draft to Draft

Dated: December 23, 2013.
Dawn Roberts,
Management Analyst, NEPA Compliance Division, Office of Federal Activities.

[FR Doc. 2013-30992 Filed 12-26-13; 8:45 am]

BILLING CODE 6560-50-P